DEPARTMENT OF COMMERCE

International Trade Administration

[A-489-855]

Certain Corrosion-Resistant Steel Products From the Republic of Türkiye: Amended Preliminary Determination of Sales at Less Than Fair Value

AGENCY: Enforcement and Compliance, International Trade Administration, Department of Commerce.

SUMMARY: On April 10, 2025, the U.S. Department of Commerce (Commerce) published its preliminary determination in the less-than-fair-value investigation of certain corrosion-resistant steel products (CORE) from the Republic of Türkiye (Türkiye) in the Federal Register. Commerce is amending this preliminary determination to correct a significant ministerial error.

DATES: Applicable May 9, 2025.

FOR FURTHER INFORMATION CONTACT: Olivia Woolverton or Brittany Bauer, AD/CVD Operations, Office V, Enforcement and Compliance, International Trade Administration, U.S. Department of Commerce, 1401 Constitution Avenue NW, Washington, DC 20230; telephone: (202) 482-7452 or (202) 482-3860, respectively.

SUPPLEMENTARY INFORMATION:

Background

On April 10, 2025, Commerce published in the Federal Register the Preliminary Determination in the less-than-fair-value investigation of CORE from Türkiye.¹ On April 14, 2025, Steel Dynamics, Inc., Nucor Corporation, United States Steel Corporation, Wheeling-Nippon Steel, Inc., and the United Steel, Paper and Forestry, Rubber, Manufacturing, Energy, Allied Industrial and Service Workers International Union, AFL-CIO, CLC (collectively, the petitioners) filed a timely ministerial error allegation concerning the Preliminary Determination.²

¹ See Certain Corrosion-Resistant Steel Products from the Republic of Türkiye: Preliminary Affirmative Determination of Sales at Less Than Fair Value, Postponement of Final Determination, and Extension of Provisional Measures, 90 FR 15340 (April 10, 2025) (Preliminary Determination), and accompanying Preliminary Decision Memorandum.

² See Petitioners' Letter, “Petitioners' Comments on Significant Ministerial Error in the Preliminary Determination,” dated April 14, 2025 (Petitioners' Ministerial Error Allegation).

Scope of the Investigation

The product covered by this investigation is CORE from Türkiye. For a complete description of the scope of this investigation, see the appendix to this notice.

Legal Framework

A ministerial error is defined in 19 CFR 351.224(f) as “an error in addition, subtraction, or other arithmetic function, clerical error resulting from inaccurate copying, duplication, or the like, and any other similar type of unintentional error which the Secretary considers ministerial.” A significant ministerial error is defined as a ministerial error, the correction of which, singly or in combination with other errors, would result in: (1) a change of at least five absolute percentage points in, but not less than 25 percent of, the weighted-average dumping margin calculated in the original preliminary determination; or (2) a difference between a weighted-average dumping margin of zero or de minimis and a weighted-average dumping margin of greater than de minimis or vice versa.³ In accordance with 19 CFR 351.224(e), Commerce “will analyze any comments received and, if appropriate, correct any significant ministerial error by amending the preliminary determination.”

³ See 19 CFR 351.224(g)(1) and (2).

Analysis of Significant Ministerial Error

In the Preliminary Determination, Commerce calculated the foreign unit price in dollars (FUPDOL) for Borcelik.⁴ The petitioners allege that, in calculating Borcelik's FUPDOL, Commerce made a currency conversion into U.S. dollars for certain values (i.e., the home market net price and difference-in-merchandise adjustment), which were already denominated in U.S. dollars.⁵ After analyzing this allegation, we determine that we made an error with respect to the calculation of Borcelik's FUPDOL. Further, we find that this miscalculation is “an error in addition, subtraction, or other arithmetic function” that resulted from Commerce not appropriately accounting for the currency in which certain values are denominated. Thus, this error constitutes a ministerial error in the Preliminary Determination.

⁴ Commerce has determined that Borcelik is a single entity which consists of Borcelik Celik Sanayii Ticaret A.S., ArcelorMittal Çelik Ticaret A.Ş., Bamesa Celik Servıs San. Ve Tic. A.Ş. and Bamesa Muradiye Demir Çelik San. Ve Tic. A.Ş. See Memorandum, “Single-Entity Analysis for Borcelik Celik Sanayii Ticaret A.S. and Affiliated Companies,” dated April 3, 2025.

⁵ See Petitioners' Ministerial Error Allegation.

Lastly, pursuant to 19 CFR 351.224(g)(2), Commerce's ministerial error in the calculation of Borcelik's FUPDOL is significant because its correction results in a difference between a weighted-average dumping margin of zero and a weighted-average dumping margin greater than de minimis (i.e., a change from an estimated weighted-average dumping margin of 0.00 percent to 2.04 percent). Therefore, we are correcting this ministerial error and amending the Preliminary Determination accordingly. For a detailed discussion of the aforementioned ministerial error allegation, as well as Commerce's analysis of the petitioners' comments, see the Ministerial Error Memorandum.⁶

⁶ See Memorandum, “Less-Than-Fair-Value Investigation of Certain Corrosion-Resistant Steel Products from the Republic of Türkiye—Analysis of Ministerial Error Allegation,” dated concurrently with, and hereby adopted by, this notice (Ministerial Error Memorandum).

All-Others Rate

Section 735(c)(5)(A) of the Tariff Act of 1930, as amended (the Act), provides that Commerce shall determine an estimated all-others rate for all exporters and producers not individually examined. This rate shall be an amount equal to the weighted average of the estimated weighted-average dumping margins established for exporters and producers individually investigated, excluding any zero and de minimis margins, and any margins determined entirely under section 776 of the Act.

As a result of this amended preliminary determination, in this investigation Commerce calculated estimated weighted-average dumping margins for both Borcelik and Yıldız Demir Çelik Sanayi A.S. and Yıldız Entegre Ağaç Sanayi ve Ticaret A.S. (collectively, YDÇ) that are not zero, de minimis, or based entirely on facts otherwise available. Accordingly, Commerce recalculated the all-others rate using a simple average of the estimated weighted-average dumping margins calculated for Borcelik and YDÇ.⁷

⁷ With two respondents under examination, Commerce normally calculates: (A) a weighted-average of the estimated weighted-average dumping margins calculated for the examined respondents; (B) a simple average of the estimated weighted-average dumping margins calculated for the examined respondents; and (C) a weighted-average of the estimated weighted-average dumping margins calculated for the examined respondents using each company's publicly-ranged U.S. sales values for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53662 (September 1, 2010), and accompanying Issues and Decision Memorandum at Comment 1. For a complete analysis of the data, see Memorandum, “Amended Calculation of All-Others Rate,” dated concurrently with this notice.

Amended Preliminary Determination

As a result of the correction of the ministerial error, the revised estimated weighted-average dumping margin for Borcelik and all other producers and exporters are as follows:

Exporter or producer | Estimated weighted- average dumping margin (percent)
Borcelik Celik Sanayii Ticaret A.S., ArcelorMittal Çelik Ticaret A.Ş., Bamesa Celik Servıs San. Ve Tic. A.Ş. and Bamesa Muradiye Demir Çelik San. Ve Tic. A.Ş | 2.04
Yıldız Demir Çelik Sanayi A.S., Yıldız Entegre Ağaç Sanayi ve Ticaret A.S | 15.18
All Others | 8.61

Disclosure

We intend to disclose the calculations performed to parties in this proceeding within five days after public announcement of the amended preliminary determination, in accordance with 19 CFR 351.224.

Amended Suspension of Liquidation and Cash Deposit Requirements

The suspension of liquidation and cash deposit requirements will be revised according to this amended preliminary determination, in accordance with section 733(d) of the Act. Because this amended preliminary determination results in revised suspension of liquidation and cash deposit requirements, these changes will be effective on the date of publication of this notice in the Federal Register. Specifically, subject merchandise that is produced and exported to the United States by Borcelik is no longer excluded from the provisional measures imposed by the Preliminary Determination. Rather, Commerce will instruct U.S. Customs and Border Protection (CBP) to suspend liquidation of shipments of subject merchandise produced and exported by Borcelik, entered, or withdrawn from warehouse, for consumption on or after publication of this notice, and require a cash deposit equal to the revised estimated weighted-average dumping margin for Borcelik (i.e., 2.04 percent).

Further, Commerce has revised the estimated weighted-average dumping margin for all other producers and exporters of subject merchandise. Accordingly, Commerce will instruct CBP, for shipments of subject merchandise, not produced or exported by Borcelik or YDÇ, entered, or withdrawn from warehouse, for consumption on or after publication of this notice, and require a cash deposit equal to the revised estimated weighted-average dumping margin for all other producers and exporters (i.e., 8.61 percent).

These suspension of liquidation instructions will remain in effect until further notice.

U.S. International Trade Commission (ITC) Notification

In accordance with section 773(f) of the Act, we intend to notify the ITC of our amended preliminary determination.

Notification to Interested Parties

This amended preliminary determination is issued and published in accordance with sections 733(f) and 777(i) of the Act, and 19 CFR 351.224(e).

Dated: May 5, 2025.
Abdelali Elouaradia,
Deputy Assistant Secretary for Enforcement and Compliance.

Appendix

Scope of the Investigation

The products covered by this investigation are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges).

For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of these investigations are products in which: (1) iron predominates, by weight, over each of the other contained elements; and (2) the carbon content is 2 percent or less, by weight.

Subject merchandise also includes corrosion-resistant steel that has been further processed in a third country, including but not limited to annealing, tempering, painting, varnishing, trimming, cutting, punching and/or slitting or any other processing that would not otherwise remove the merchandise from the scope of the investigation if performed in the country of manufacture of the in-scope corrosion resistant steel.

All products that meet the written physical description are within the scope of the investigation unless specifically excluded. The following products are outside of and/or specifically excluded from the scope of this investigation:

• Flat-rolled steel products either plated or coated with tin, lead, chromium, chromium oxides, both tin and lead (“terne plate”) or both chromium and chromium oxides (“tin free steel”), whether or not painted, varnished or coated with plastics or other non-metallic substances in addition to the metallic coating;

• Clad products in straight lengths of 4.7625 mm or more in composite thickness and of a width which exceeds 150 mm and measures at least twice the thickness;

• Certain clad stainless flat-rolled products, which are three-layered corrosion-resistant carbon steel flat-rolled products less than 4.75 mm in composite thickness that consist of a carbon steel flat-rolled product clad on both sides with stainless steel in a 20%-60%-20% ratio; and

Also excluded from the scope of the antidumping duty investigation on corrosion resistant steel from Taiwan are any products covered by the existing antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); Corrosion-Resistant Steel Products from Taiwan: Notice of Third Amended Final Determination of Sales at Less Than Fair Value Pursuant to Court Decision and Partial Exclusion from Antidumping Duty Order, 88 FR 58245 (August 25, 2023).

Also excluded from the scope of the antidumping duty investigation on corrosion-resistant steel from the United Arab Emirates and the antidumping duty and countervailing duty investigations on corrosion-resistant steel from the Socialist Republic of Vietnam are any products covered by the existing antidumping and countervailing duty orders on corrosion-resistant steel from the People's Republic of China and the Republic of Korea and the antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); see also Certain Corrosion-Resistant Steel Products from India, Italy, Republic of Korea and the People's Republic of China: Countervailing Duty Order, 81 FR 48387 (July 25, 2016). This exclusion does not apply to imports of corrosion-resistant steel that are entered, or withdrawn from warehouse, for consumption in the United States for which the relevant importer and exporter certifications have been completed and maintained and all other applicable certification requirements have been met such that the entry is entered into the United States as not subject to the antidumping and countervailing duty orders on corrosion-resistant steel from the People's Republic of China, the antidumping and countervailing duty orders on corrosion-resistant steel from the Republic of Korea, or the antidumping duty order on corrosion-resistant steel from Taiwan.

The products subject to the investigation are currently classified in the Harmonized Tariff Schedule of the United States (HTSUS) under subheadings: 7210.30.0030, 7210.30.0060, 7210.41.0000, 7210.49.0030, 7210.49.0040, 7210.49.0045, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, 7212.60.0000, 7225.91.0000, 7225.92.0000, 7226.99.0110, and 7226.99.0130.

The products subject to the investigation may also enter under the following HTSUS subheadings: 7210.90.1000, 7215.90.1000, 7215.90.3000, 7215.90.5000, 7217.20.1500, 7217.30.1530, 7217.30.1560, 7217.90.1000, 7217.90.5030, 7217.90.5060, 7217.90.5090, 7225.99.0090, 7226.99.0180, 7228.60.6000, 7228.60.8000, and 7229.90.1000.

The HTSUS subheadings above are provided for convenience and customs purposes only. The written description of the scope of the investigation is dispositive.

[FR Doc. 2025-08163 Filed 5-8-25; 8:45 am]

BILLING CODE 3510-DS-P